DEPARTMENT OF DEFENSE

Department of the Army

[Docket ID: USA-2024-HQ-0004]

Submission for OMB Review; Comment Request

AGENCY: U.S. Army Corps of Engineers (USACE), Department of the Army, Department of Defense (DoD).

ACTION: 30-Day information collection notice.

SUMMARY: The DoD has submitted to the Office of Management and Budget (OMB) for clearance the following proposal for collection of information under the provisions of the Paperwork Reduction Act.

DATES: Consideration will be given to all comments received by July 8, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: USACE Regulatory Program General Forms; ENG Forms 4336, 4345, 6082, 6233, 6284-6287, 6294, and 6295; OMB Control Number 0710-0003.

Type of Request: Revision.

Number of Respondents: 240,444.

Responses per Respondent: 1.

Annual Responses: 240,444.

Average Burden per Response: 2.04 hours.

Annual Burden Hours: 490,506.

Needs and Uses: The USACE (Corps), through its Regulatory Program, regulates certain activities in waters of the United States (WOTUS), pursuant to section 404 of the Clean Water Act (CWA). WOTUS are defined under 33 CFR part 328. The Corps also regulates certain activities in “navigable waters of the United States” pursuant to Sections 9 and 10 of the Rivers and Harbors Act (RHA) of 1899. The information collected is used to evaluate, as required by law, proposed construction or filling in WOTUS that result in impacts to the aquatic environment and nearby properties, and to determine which type of permit would be required if one was needed. Respondents are private landowners, businesses, nonprofit organizations, and government agencies. Respondents also include sponsors of proposed and approved mitigation banks and in-lieu fee programs.

The USACE is required by three Federal laws, passed by Congress, to regulate construction-related activities in waters of the United States. This is accomplished through the review of applications for permits to do this work. There are five types of permits that may be used. The ENG 4345 form used for standard permit applications has been in use since the 1970s and the request to extend the expiration date is being provided in this notice. The ENG 6082 used for Nationwide Permits (NWP) pre-construction notifications has been in use for several years. NWPs are one type of permit authorization that involves a streamlined review process to ensure that no more than minimal individual or cumulative adverse environmental effect result from construction of the proposed activity. NWPs authorize discharges of dredged or fill material into waters of the United States pursuant to section 404 of the CWA and structures or work in navigable waters under section 10 of the RHA of 1899. With the exception of the ENG 4345, use of the forms is optional, but allows the Corps to collect the information needed to evaluate the applicants' proposal to determine eligibility for authorization. The Corps will provide outreach materials to guide the public in which of the forms should be used and how using the form and providing the information requested can reduce the time it takes to review whether an application is complete. The information collected is used to evaluate, as required by law, proposed construction or filling in WOTUS that result in impacts to the aquatic environment and nearby properties, and to determine which type of permit would be required if one was needed.

In addition to the renewal of the ENG 4345 and ENG 6082, the Corps is also proposing seven new enterprise-level collections for (1) Notice of USACE Permit (ENG 4336), (2) Regulatory Violation Complaint (ENG 6284), (3) Certification of Compliance with Department of the Army Permit (ENG 6285), (4) Request for Pre-Application Meeting (ENG 6286), (5) Notification of Administrative Appeal Options and Process and Request for Appeal (ENG 6287), (6) Right of Entry (ENG 6294), and (7) Authorization to Act as an Agent (ENG 6295). The Corps is proposing to add these seven new forms to the collection to facilitate common requests from the public in a streamlined and standardized fashion that will be common across Corps districts. This collection would include new forms to certify compliance with Corps permits, request a pre-application meeting, request an administrative appeal, and/or report a violation. The Corps also proposes to incorporate its Customer Service Survey (ENG 6233) into this collection.

Affected Public: Individuals or households; business or other for-profit; not-for-profit institutions; farms; Federal Government; State; local or Tribal government.

Frequency: On occasion.

Respondent's Obligation: Voluntary.

OMB Desk Officer: Mr. Matthew Oreska.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: May 30, 2024.
Aaron T. Siegel,
Alternate OSD Federal Register Liaison Officer, Department of Defense.

[FR Doc. 2024-12386 Filed 6-5-24; 8:45 am]

BILLING CODE 6001-FR-P